DEPARTMENT OF ENERGY

Federal Energy Regulatory Commission

18 CFR Part 385

[Docket No. RM02-11-000]

Civil Monetary Penalty Inflation Adjustment Rule: Order No. 692; Order Redesignating Proceeding

Issued February 16, 2007.

AGENCY: Federal Energy Regulatory Commission, DOE.

ACTION: Final rule: order redesignating proceeding.

SUMMARY: On August 5, 2002, the Commission issued a final rule for a Civil Monetary Penalty Inflation Adjustment as mandated by the Debt Collection Improvement Act of 1996. The final rule was designated “Order No. 890”. The Commission is redesignating “Order No. 890” as “Order No. 692”.

DATES: Effective Date: February 16, 2007.

FOR FURTHER INFORMATION CONTACT: Secretary's Office, Federal Energy Regulatory Commission, 888 First Street, NE., Washington, DC 20426, (202) 502-8400.

SUPPLEMENTARY INFORMATION: On August 5, 2002, the Commission issued “Order No. 890, Final Rule” in the above-captioned proceeding. Civil Monetary Penalty Inflation Adjustment Rule, 100 FERC ¶ 61,159 (2002).

By this order the Commission redesignates the above-captioned proceeding as Order No. 692, Final Rule.

By direction of the Commission.
Nora E. Donovan,
Acting Secretary.

[FR Doc. E7-4552 Filed 3-12-07; 8:45 am]

BILLING CODE 6717-01-P